DEPARTMENT OF COMMERCE

Office of the Secretary

15 CFR Part 4

[Docket No. 050715188-5188-01]

RIN: 0605-AA20

Disclosure of Government Information; Change in Designated Official

AGENCY: Department of Commerce.

ACTION: Final rule.

SUMMARY: This rule amends the Department of Commerce's (Department) Freedom of Information Act (FOIA) regulations by changing the official authorized to deny requests for records under the Freedom of Information Act, and requests for correction or amendment under the Privacy Act (PA), for the Bureau of the Census.

DATES: Effective August 15, 2005.

FOR FURTHER INFORMATION CONTACT: Rochelle Wilkie Martinez, Acting Chief, Policy Office, U.S. Census Bureau, 301-763-3461.

SUPPLEMENTARY INFORMATION: Appendix B to 15 CFR part 4 designates the officials authorized to deny requests for records under the FOIA, and requests for records and requests for correction or amendment under the PA. In order to change the designated official for the Bureau of the Census, we are amending the regulations.

Classification

It has been determined that this notice is not significant for purposes of E.O. 12866.

It has been determined that this notice does not contain policies with Federalism implications as that term is defined in EO 13132.

Prior notice and an opportunity for public comment are not required by the Administrative Procedure Act for rules concerning agency organization, procedure, or practice (5 U.S.C. 553(b)(A)). The Department finds good cause to waive the 30-day delay in effectiveness because it is unnecessary. This rule merely changes the name of the official who is authorized to deny requests for records under the Freedom of Information Act, and requests for correction or amendment under the Privacy Act. 5 U.S.C. (d)(3).

Because notice and opportunity for comment are not required pursuant to 5 U.S.C. 553 or any other law, the analytical requirements of the Regulatory Flexibility Act (5 U.S.C. 601 et seq.) are inapplicable. Therefore, a regulatory flexibility analysis is not required and has not been prepared.

List of Subjects in 15 CFR Part 4

Freedom of information, Privacy.

For the reasons above, amend appendix B to 15 CFR part 4 as follows:

PART 4—DISCLOSURE OF GOVERNMENT INFORMATION

1. The authority citation for part 4 continues to read as follows:

Authority: 5 U.S.C. 301; 5 U.S.C. 552; 5 U.S.C. 552a; 5 U.S.C. 553; 31 U.S.C. 3717; 44 U.S.C. 3101; Reorganization Plan No. 5 of 1950.

Appendix B to Part 4—Officials Authorized To Deny Requests for Records Under the Freedom of Information Act, and Requests for Records and Requests for Correction or Amendment Under the Privacy Act

2. In Appendix B to part 4, under the heading ECONOMICS AND STATISTICS ADMINISTRATION, remove “Bureau of the Census: Chief, Policy Office” and add in its place “Bureau of the Census: Manager, Freedom of Information Act”.

Dated: August 9, 2005.
Brenda Dolan,
Departmental Freedom of Information and Privacy Act Officer.

[FR Doc. 05-16093 Filed 8-12-05; 8:45 am]

BILLING CODE 3510-17-P